DEPARTMENT OF ENERGY

Fusion Energy Sciences Advisory Committee

Notice of Open Meeting Cancellation

AGENCY: Department of Energy, Office of Science.

ACTION: Notice of open meeting cancellation.

On June 25, 2008, the Department of Energy published a notice of open meeting announcing an August 4-5, 2008, meeting of the Fusion Energy Sciences Advisory Committee 73 FR 36065.

Today's notice is announcing the cancellation of that meeting.

Issued in Washington, DC, on July 23, 2008.
Rachel Samuel,
Deputy Committee Management Officer.

[FR Doc. E8-17339 Filed 7-28-08; 8:45 am]

BILLING CODE 6450-01-P